DEPARTMENT OF DEFENSE

Department of the Navy

[Docket ID USN-2023-HQ-0013]

Proposed Collection; Comment Request

AGENCY: Department of the Navy, Department of Defense (DoD).

ACTION: 60-Day information collection notice.

SUMMARY: In compliance with the Paperwork Reduction Act of 1995, the Marine Corps Marine and Family Programs Division (MFP) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 16, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to AR Division, Headquarters Marine Corps, 3000 Marine Corps, Pentagon Rm. 2B253, Washington, DC 20350-3000, ATTN: Mr. Mark Kazzi, or call 571-256-8883.

SUPPLEMENTARY INFORMATION:

Title; Associated Form; and OMB Number: Marine Corps Safety Needs Assessment; OMB Control Number 0712-LMSA.

Needs and Uses: The Defense Suicide Prevention Office (DSPO) has contracted the Center for Naval Analyses (CNA) to conduct a study titled “Assessing the Implementation and Effectiveness of DOD's Lethal Means Safety (LMS) Outreach Materials.” LMS, as defined by DoD Instruction 6400.09, is a non-clinical suicide prevention activity and process of ensuring highly lethal means of suicide or other prohibited abusive and harmful acts are out of reach during times of increased stress, when risk of such acts is heightened. Since Marine Corps suicide attempt rates are among the highest in the DoD, with most attempts occurring via firearm, there is a perception that existing LMS messaging and training are not resonating with Marines.

In order to examine this trend within the Marine Corps and gather relevant baseline data for the larger DSPO initiative, CNA, in conjunction with the Marine Corps Marine and Family Programs Division (MFP), propose the information collection, “Marine Corps Safety Needs Assessment” survey. This voluntary survey examines current LMS program awareness, preferences for safety devices and locations, and the place of safety in Marine Corps culture. This survey will assist MFP in identifying, from the perspective of Marines, the reach of current LMS efforts and the acceptability of potential LMS activities. The results of the survey will be used by MFP and DSPO to better understand which LMS activities and messages resonate with Marines, as well as serve as a baseline data for future LMS activity effectiveness evaluations in accordance with the standards of practice framework prescribed by DoD Instruction 6490.16.

Affected Public: Individuals or households.

Annual Burden Hours: 2,262.

Number of Respondents: 9,048.

Responses per Respondent: 1.

Annual Responses: 9,048.

Average Burden per Response: 15 minutes.

Frequency: Once.

Dated: April 12, 2023.
Kayyonne T. Marston,
Alternate OSD Federal Register Liaison Officer, Department of Defense.

[FR Doc. 2023-08050 Filed 4-14-23; 8:45 am]

BILLING CODE 5001-06-P